DEPARTMENT OF ENERGY

Federal Energy Regulatory Commission

[Project No. 6440-010]

Lakeport Hydroelectric One, LLC; Notice Soliciting Scoping Comments

Take notice that the following hydroelectric application has been filed with the Commission and is available for public inspection.

a. Type of Application: Subsequent Minor License.

b. Project No.: 6440-010.

c. Date Filed: August 30, 2021.

d. Applicant: Lakeport Hydroelectric One, LLC (Lakeport).

e. Name of Project: Lakeport Hydroelectric Project (project).

f. Location: On the Winnipesaukee River in Belknap County, New Hampshire. The project does not occupy any federal land.

g. Filed Pursuant to: Federal Power Act, 16 U.S.C. 791(a)—825(r).

h. Applicant Contact: Ms. Jody Smet, Lakeport Hydroelectric One, LLC c/o Eagle Creek Renewable Energy, LLC, 7315 Wisconsin Avenue, Suite 1100W, Bethesda, MD 20814; Phone at (240) 482-2700, or email at jody.smet@eaglecreekre.com..

i. FERC Contact: Erin Kimsey at (202) 502-8621, or erin.kimsey@ferc.gov.

j. Deadline for Filing Scoping Comments: March 26, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Lakeport Project (P-6440-010).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Lakeport Hydroelectric Project consists of: (1) A 243-foot-long, 12.34-foot-high concrete gravity dam that includes the following sections: (a) A 60-foot-long, 12.34-foot-high east abutment section; (b) 78-foot-long, 4-foot-high section with a sill elevation of 495.22 feet National Geodetic Vertical Datum of 1929 (NGVD29), topped with three 10-foot-high, 18-foot-wide slide gates; (c) an approximately 15-foot-long overflow section with a crest elevation of 505.33 feet NGVD29; (d) an approximately 21-foot-long, 10-foot-wide center pier; (e) a 25-foot-long, 12.33-foot-high stoplog section; and (f) a 44-foot-long, 41.67-foot-wide concrete powerhouse that is integral with the dam and that contains three 200-kW vertical submersible Flygt turbine-generator units located on outdoor concrete pilings for a total installed capacity of 600 kW; (2) a 75-foot-long stone training wall that extends downstream on the western side of the powerhouse; (3) an impoundment (Lake Winnipesaukee) with a surface area of approximately 46,208 acres and a storage capacity of 165,800 acre-feet at an elevation of 504 feet NGVD29; (4) a 2,500-square-foot forebay area; (4) a 7.7-foot-long, 15-foot-high concrete and granite intake structure that is equipped with three 6-foot-diameter, 10-foot-long cylindrical headgates and a trashrack with 2-inch clear bar spacing with a 0.75-inch overlay; (5) a 23-foot-long, 30.5-foot-wide, 20-foot-high concrete and lumber control building adjacent to the powerhouse, on the eastern shoreline; (6) a 200-foot-long, 50-foot-wide tailrace that discharges into the Winnipesaukee River; (7) three 30- to 55-foot-long, 0.48-kilovolt (kV) generator leads, three 0.48/12.4-kV step-up transformers at a substation adjacent to the control building that connect the project to the local utility distribution system; and (8) appurtenant facilities. The average annual energy production of the project from 2015 to 2019, was 2,250 MWh.

Lakeport proposes to prepare a trashrack replacement plan, in consultation with agencies. Lakeport is not proposing any operational changes.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process:

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do anticipate holding on-site scoping meetings. Instead, we are soliciting written comments and suggestions on the preliminary list of issues and alternatives to be addressed in the NEPA document, as described in scoping document 1 (SD1), issued February 24, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 24, 2022.
Kimberly D. Bose,
Secretary.

[FR Doc. 2022-04555 Filed 3-3-22; 8:45 am]

BILLING CODE 6717-01-P